NUCLEAR REGULATORY COMMISSION

Programmatic Environmental Assessment and Final Finding of No Significant Impact for Exemptions From the Implementation Deadline for New Security Requirements

The U.S. Nuclear Regulatory Commission (NRC) has received and expects to receive exemption requests from several nuclear power reactor licensees. Each expected exemption request will be from the implementation date requirement of Title 10 of the Code of Federal Regulations (10 CFR) 73.55. The NRC is authorized to issue exemptions pursuant to 10 CFR 73.5. In accordance with 10 CFR 51.21, the NRC has performed a programmatic environmental assessment of these exemption requests. The NRC concluded that the proposed action constitutes administrative (timing) changes that would not impact the environmental resources near any specified nuclear power plant. Based upon the results of this programmatic environmental assessment, the NRC is issuing a finding of no significant impact.

Environmental Assessment

Identification of the Proposed Action

The proposed action may include issuing exemptions to nuclear power plant licensees for up to 40 nuclear power plant sites, all of which have already been granted plant-specific exemptions granting additional time to implement some of the new requirements of 10 CFR 73.55. These sites are:

Arkansas Nuclear One, Units 1 and 2

Beaver Valley Power Station, Unit Nos. 1 and 2

Browns Ferry Nuclear Plant, Units 1, 2,and 3

Brunswick Steam Electric Station, Units 1 and 2

Columbia Generating Station

Cooper Nuclear Station

Crystal River Unit 3 Nuclear Generating Plant

Davis-Besse Nuclear Power Station, Unit No. 1

Diablo Canyon Power Plant, Unit Nos. 1 and 2

Edwin I. Hatch Nuclear Plant, Units 1 and 2

Fermi 2

Fort Calhoun Station, Unit 1

Grand Gulf Nuclear Station, Unit 1

H. B. Robinson Steam Electric Plant, Unit No. 2

Hope Creek Generating Station, Unit Nos. 1 and 2

Indian Point Nuclear Generating Unit Nos. 1, 2 and 3

James A. Fitzpatrick Nuclear Power Plant

Joseph M. Farley Nuclear Plant, Units 1 and 2

Millstone Power Station, Unit Nos. 1, 2, and 3

Monticello Nuclear Generating Plant

North Anna Power Station, Unit Nos. 1 and 2

Palisades Nuclear Plant

Palo Verde Nuclear Generating Station, Units 1, 2, and 3

Perry Nuclear Power Plant, Unit No. 1

Pilgrim Nuclear Power Station

Point Beach Nuclear Plant, Units 1 and 2

Prairie Island Nuclear Generating Plant, Units 1 and 2

Salem Nuclear Generating Station, Unit Nos. 1 and 2

San Onofre Nuclear Generating Station, Units 2 and 3

Seabrook Station, Unit No. 1

Sequoyah Nuclear Plant, Units 1 and 2

Shearon Harris Nuclear Power Plant, Unit 1

South Texas Project, Units 1 and 2

Surry Power Station, Unit Nos. 1 and 2

Susquehanna Steam Electric Station, Units 1 and 2

Vermont Yankee Nuclear Power Station

Virgil C. Summer Nuclear Station, Unit No. 1

Vogtle Electric Generating Plant, Units 1 and 2

Waterford Steam Electric Station, Unit 3

Watts Bar Nuclear Plant, Units 1 and 2

Wolf Creek Generating Station

Specifically, the licensees for each of these plants may propose an additional alternate date for full compliance beyond the March 31, 2010 date required by 10 CFR 73.55(a)(1), and if approved by the NRC, would be granted a plant-specific exemption. The proposed action, an exemption extending the schedule for completion of actions required by the revised 10 CFR 73.55, would not involve any physical changes to the reactor(s), fuel, plant structures, support structures, land, or water at each nuclear power plant site. If granted, a plant-specific safety evaluation will be included in the letter to the licensee approving the exemption from the regulation.

The Need for the Proposed Action

The proposed action is needed to continue to exempt up to 40 nuclear power plant sites from being in full compliance with new requirements contained in 10 CFR 73.55. The original implementation date was March 31, 2010 and previous exemptions were granted to several licensees from meeting that date. Another round of exemptions is needed to provide these licensees with additional time to comply with the rule requirements. While licensees completed much of the work required by the 10 CFR 73.55 rule change at their plants by the March 31, 2010 implementation date, affected licensees require additional time to complete all newly required modifications.

Environmental Impacts of the Proposed Action

The NRC regulation, 10 CFR 73.55, requires NRC nuclear power plant licensees to implement various physical protection requirements to prevent radiological sabotage. The NRC has completed its environmental assessment of the proposed action, and has concluded that, should NRC decide to grant a 10 CFR 73.55 compliance date exemption to these plants, extending the implementation deadline would not significantly affect plant safety and would not significantly affect the probability of an accident.

The proposed action would not increase the radiological hazard beyond what was analyzed in the environmental assessment and finding of no significant impact made by the Commission in promulgating its revisions to 10 CFR 73.55 as discussed in the Federal Register notice dated March 27, 2009 (74 FR 13926). There would be no change to radioactive effluents and emissions that would increase radiation exposures to plant workers and members of the public. Therefore, no radiological impacts are expected as a result of the proposed action.

In addition, there will be no construction or major renovation of any buildings or structures, nor any ground disturbing activities associated with an extension of the compliance deadline. Licensees would not increase or decrease their workforce, nor is traffic to or around any of the subject power plants expected to increase, as a result of an extension of the compliance deadline. Therefore, providing licensees with additional time to comply with the revised requirements of 10 CFR 73.55 would not alter land use, air quality, and water use (quality and quantity) conditions or National Pollutant Discharge Elimination System permits at each of the nuclear power plants that may be the subject of an exemption request. Aquatic and terrestrial habitat in the vicinity of each power plant; threatened, endangered, and protected species under the Endangered Species Act; and essential fish habitat covered by the Magnuson-Stevens Act would not be affected. In addition, historic and cultural resources, socioeconomic conditions, and minority and low-income populations in the vicinity of each power plant would also not be affected by this action.

As previously noted, in promulgating its amendments to 10 CFR part 73, the Commission prepared an environmental assessment of the rule change and published a finding of no significant impact (10 CFR parts 50, 52, 72, and 73, Power Reactor Security Requirements, 74 FR 13926 (March 27, 2009)). Thus, through the proposed action, the Commission would be granting additional time for the licensees to comply with regulatory requirements for which the Commission has already found no significant impact.

For the foregoing reasons, the NRC concludes that there would be no significant radiological or non-radiological environmental impacts associated with the extension of the implementation date of the new requirements of 10 CFR 73.55.

Environmental Impacts of the Alternatives to the Proposed Action

As an alternative to the proposed action, the NRC considered denial of the proposed actions (i.e., the “no-action” alternative). Denial of the exemption requests would result in no change in current environmental conditions at each of the nuclear power plants.

Denial of the exemption requests would result in the licensees being in non-compliance with 10 CFR 73.55(a)(1) and thus, subject to NRC enforcement action. The end result, however, would still be ultimate licensee compliance with the requirements of 10 CFR 73.55, but with the added expense to both the NRC and the licensees of any enforcement actions. The NRC concludes that the environmental impacts of the proposed exemption and the “no action” alternative are similar.

Alternative Use of Resources

The proposed action does not involve the use of any different resources than those considered in the final environmental statements for the granting of the operating licenses for these nuclear power plants and for those plants that have had their licenses renewed, in NUREG-1437, “Generic Environmental Impact Statement for License Renewal of Nuclear Plants,” published in May 1996, and its supplements published from 1999 to the present.

Finding of No Significant Impact

On the basis of the above environmental assessment, which in accordance with 10 CFR 51.32(a)(4), is incorporated into this finding of no significant impact by reference, the NRC concludes that the proposed action constitutes an administrative change (timing) that would not have a significant effect on the quality of the human environment. Accordingly, the NRC has determined not to prepare an environmental impact statement for the proposed action.

Further details with respect to the proposed action will be available as individual licensees request exemptions. Portions of these requests may contain proprietary and safeguards information and, accordingly, will not available to the public. Other parts of these documents may be examined, and/or copied for a fee, at the NRC's Public Document Room (PDR), located at One White Flint North, Public File Area O-1 F21, 11555 Rockville Pike (first floor), Rockville, Maryland 20852. Publicly available records will be accessible electronically from the Agencywide Document Access and Management System (ADAMS) Public Electronic Reading Room on the Internet at the NRC Web site: http://www.nrc.gov/reading-rm/adams.html.

Persons who do not have access to ADAMS or who encounter problems in accessing the documents located in ADAMS should contact the NRC PDR Reference staff by telephone at 1-800-397-4209 or 301-415-4737, or send an e-mail to pdr.resource@nrc.gov.

Dated at Rockville, Maryland, this 20th day of December 2010.
For the Nuclear Regulatory Commission.
Robert J. Pascarelli,
Chief, Plant Licensing Branch III-1, Division of Operating Reactor Licensing, Office of Nuclear Reactor Regulation.

[FR Doc. 2010-33073 Filed 12-30-10; 8:45 am]

BILLING CODE 7590-01-P